DEPARTMENT OF LABOR

Employment and Training Administration

[TA-W-59,168]

Joan Fabrics Corporation, Including Workers Whose Wages Were Paid by Accuforce Staffing Agency and Valdese Weavers LLC, Siler City, NC; Amended Certification Regarding Eligibility To Apply for Worker Adjustment Assistance and Alternative Trade Adjustment Assistance

In accordance with section 223 of the Trade Act of 1974 (19 U.S.C. 2273), and section 246 of the Trade Act of 1074 (26 U.S.C. 2813), as amended, the Department of Labor issued a Certification of Eligibility to Apply for Worker Adjustment Assistance and Alternative Trade Adjustment Assistance on April 25, 2006, applicable to workers of Joan Fabrics Corporation, Siler City, North Carolina. The notice was published in the Federal Register on May 11, 2006 (71 FR 27519). The certification was amended on July 26, 2007 to include workers whose wages were paid by AccuForce Staffing Service. The notice as published in the Federal Register on August 2, 2007 (72 FR 42432).

At the request of a company official, the Department reviewed the certification for workers of the subject firm. The workers were engaged in the production of upholstery, wall panel and tie lining fabrics.

New information shows that following a corporate decision, workers of the Siler City, North Carolina location of the subject firm will have their wages reported under a separated unemployment insurance (UI) tax account for Valdese Weavers LLC between November 12, 2007 and February 29, 2008.

Accordingly, the Department is amending the certification to properly reflect this matter.

The intent of the Department's certification is to include all workers of Joan Fabrics Corporation, Siler City, North Carolina who were adversely affected by a shift in production to Mexico.

The amended notice applicable to TA-W-59,168 is hereby issued as follows:

All workers of Joan Fabrics Corporation, including workers whose wages were paid by AccuForce Staffing Agency and Valdese Weavers LLC, Siler City, North Carolina, who became totally or partially separated from employment on or after April 5, 2005, through April 25, 2008, are eligible to apply for adjustment assistance under section 223 of the Trade Act of 1974, and are also eligible to apply for alternative trade adjustment assistance under section 246 of the Trade Act of 1974.

Signed at Washington, DC, this 15th day of February, 2008.
Richard Church,
Certifying Officer, Division of Trade Adjustment Assistance.

[FR Doc. E8-3794 Filed 2-28-08; 8:45 am]

BILLING CODE 4510-FN-P